FEDERAL COMMUNICATIONS COMMISSION

47 CFR Part 1

[GC Docket No. 10-44; DA 12-1401]

Notice of Commission's Implementation of Procedure of Serving Parties in an Electronic Format

AGENCY: Federal Communications Commission.

ACTION: Final rule.

SUMMARY: In this document, the Commission, via the Consumer and Governmental Affairs Bureau (CGB) provides notice of the implementation of a revised procedure for it to provide service of copies of orders, pleadings, and other documents to parties to a docketed proceeding when required by statute or regulation. Henceforth, that service will be made in an electronic format, rather than by mail.

DATES: Effective October 17, 2012.

FOR FURTHER INFORMATION CONTACT: Deborah Broderson, Consumer and Governmental Affairs Bureau at (202) 418-0652, or email: Deborah.Broderson@fcc.gov.

SUPPLEMENTARY INFORMATION: This is a synopsis of the Commission's Public Notice, document DA 12-1401, released on August 24, 2012, Consumer and Governmental Affairs Bureau Notice of Commission's Implementation of Procedure of Serving Parties in an Electronic Format. The full text of DA 12-1401 will be available for public inspection and copying during regular business hours at the FCC Reference Information Center, Portals II, 445 12th Street SW., Room CY-A257, Washington, DC 20554. DA 12-1401 may also be purchased from the Commission's duplicating contractor, Best Copying and Printing, Inc. (BCPI), at Portals II, 445 12th Street SW., Room CY-B402, Washington, DC 20554. Customers may contact BCPI at its Web site, www.bcpiweb.com, or by calling 202-488-5300. DA 12-1401 can also be downloaded in Word or Portable Document Format (PDF) at: http://www.fcc.gov/document/commissions-implementation-serving-parties-electronic-format. To request materials in accessible formats for people with disabilities (Braille, large print, electronic files, audio format), send an email to fcc504@fcc.gov or call the Consumer and Governmental Affairs Bureau at (202) 418-0530 (voice), (202) 418-0432 (TTY).

By this Public Notice, CGB provided notice of the Commission's implementation of a revised procedure for it to provide service of copies of orders, pleadings, and other documents to parties to a docketed proceeding when required by statute or regulation. Henceforth, that service will be made in an electronic format, rather than by mail. This procedural change is made pursuant to § 1.47 of the Commission's Rules, as amended in 2011. On February 4, 2011, the Commission released Amendment of Certain of the Commission's Part 1 Rules of Practice and Procedure and Part 0 Rules of Commission Organization, Report and Order, FCC 11-16, in CG Docket No. 11-44, published at 76 FR 24383, May 2, 2011, by which the Commission revised portions of its Part 1 practice and procedural rules and its Part 0 organizational rules to improve the efficiency of Commission decision-making and modernize the agency's processes in the digital age. Among other things, the Commission amended § 1.47 to allow the agency to serve parties to a proceeding in an electronic format (e.g., email or an Internet-based notification system such as an RSS feed). The amended rule also provides, in proceedings involving large numbers of parties, that the Commission may now satisfy its service obligation by issuing a public notice that identifies the documents required to be served and explains how parties can obtain copies of the documents. A note to the revised rule states that staff will decide the appropriate format for electronic notification in a particular proceeding, and that the Commission expects that service by public notice will be used only in proceedings with 20 or more parties. In DA 12-1401, CGB provides notice that, in docketed proceedings with fewer than 20 parties, the Commission will commence service of documents by RSS feed. Effective October 17, 2012, the Commission will discontinue mailing paper copies of documents that were previously served to parties in certain types of proceedings. Such parties should make the necessary arrangements so that they can obtain documents via RSS feed. Instructions on how to subscribe to an ECFS RSS feed may be found at: http://fjallfoss.fcc.gov/ecfs/userManual/search/how_to_use_rss.jsp.

Federal Communications Commission.
Kris Anne Monteith,
Acting Chief, Consumer and Governmental Affairs Bureau.

[FR Doc. 2012-22756 Filed 9-14-12; 8:45 am]

BILLING CODE 6712-01-P